DEPARTMENT OF DEFENSE

Department of the Army

32 CFR Part 508

[Docket ID: USA-2017-HQ-0010]

RIN 0702-AA83

Competition With Civilian Bands

AGENCY: Department of the Army, DoD.

ACTION: Final rule.

SUMMARY: This final rule removes the Department of the Army's regulation concerning participation of Army bands on and off post. This part has been superseded by requirements which direct appropriate participation of U.S. military bands on and off post. This part conveys internal Army policy and procedures and is unnecessary. Therefore, this part should be removed from the CFR.

DATES: This rule is effective on August 27, 2018.

FOR FURTHER INFORMATION CONTACT: Jennifer Williams at 757-462-1060.

SUPPLEMENTARY INFORMATION: Public comment on the removal of 32 CFR part 508 is not required because the regulation involves a matter relating to agency management and personnel, and because the regulation is a general statement of policy.

DoD internal guidance will continue to be published in Army Regulation 220-90, “Army Music,” available at https://armypubs.army.mil/ProductMaps/PubForm/AR.aspx.

This rule is not significant under Executive Order (E.O.) 12866, “Regulatory Planning and Review,” therefore, E.O. 13771, “Reducing Regulation and Controlling Regulatory Costs” does not apply.

List of Subjects in 32 CFR Part 508

Music, Utilization of Army bands.

PART 508—[REMOVED]

Accordingly, by the authority of 5 U.S.C. 301, 32 CFR part 508 is removed.

Brenda S. Bowen,
Army Federal Register Liaison Officer.

[FR Doc. 2018-18480 Filed 8-24-18; 8:45 am]

BILLING CODE 5001-03-P